NUCLEAR REGULATORY COMMISSION

[Docket No. NRC-2011-0114]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number. The NRC published a Federal Register Notice with a 60-day comment period on this information collection on June 6, 2011.

1. Type of submission, new, revision, or extension: Extension.

2. The title of the information collection: 10 CFR part 61, Licensing Requirements for Land Disposal of Radioactive Waste.

3. Current OMB approval number: 3150-0135.

4. The form number if applicable: N/A.

5. How often the collection is required: Applications for licenses are submitted as needed. Other reports are submitted annually and as other events require.

6. Who will be required or asked to report: Applicants for and holders of an NRC license (to include Agreement State licensees) for land disposal of low-level radioactive waste; and all generators, collectors, and processors of low-level waste intended for disposal at a low-level waste facility.

7. An estimate of the number of annual responses: 16.

8. The estimated number of annual respondents: 4.

9. An estimate of the total number of hours needed annually to complete the requirement or request: 5,412 hours (56 hours for reporting [approximately 4.6 hours per response] and 5,356 hours for recordkeeping [approximately 1,339 hours per recordkeeper]).

10. Abstract: 10 CFR Part 61 establishes the procedures, criteria, and license terms and conditions for the land disposal of low-level radioactive waste. The reporting and recordkeeping requirements are mandatory and, in the case of application submittals, are required to obtain a benefit. The information collected in the applications, reports, and records is evaluated by the NRC to ensure that the licensee's or applicant's disposal facility, equipment, organization, training, experience, procedures, and plans provide an adequate level of protection of public health and safety, common defense and security, and the environment.

The public may examine and have copied for a fee publicly available documents, including the final supporting statement, at the NRC's Public Document Room, Room O1-F21, One White Flint North, 11555 Rockville Pike, Rockville, Maryland 20852. OMB clearance requests are available at the NRC Web site: http://www.nrc.gov/public-involve/doc-comment/omb/index.html. The document will be available on the NRC home page site for 60 days after the signature date of this notice.

Comments and questions should be directed to the OMB reviewer listed below by October 3, 2011. Comments received after this date will be considered if it is practical to do so, but assurance of consideration cannot be given to comments received after this date.

Chad Whiteman, Desk Officer, Office of Information and Regulatory Affairs (3150-0135), NEOB-10202, Office of Management and Budget, Washington, DC 20503.

Comments can also be e-mailed to CWhiteman@omb.eop.gov or submitted by telephone at 202-395-4718.

The NRC Clearance Officer is Tremaine Donnell, 301-415-6258.

Dated at Rockville, Maryland, this 26th day of August, 2011.
For the Nuclear Regulatory Commission.
Tremaine Donnell,
NRC Clearance Officer, Office of Information Services.

[FR Doc. 2011-22549 Filed 9-1-11; 8:45 am]

BILLING CODE 7590-01-P